NUCLEAR REGULATORY COMMISSION

[NRC-2015-0007]

Applications and Amendments to Facility Operating Licenses and Combined Licenses Involving Proposed No Significant Hazards Considerations and Containing Sensitive Unclassified Non-Safeguards Information and Order Imposing Procedures for Access to Sensitive Unclassified Non-Safeguards Information; Corrections

AGENCY: Nuclear Regulatory Commission.

ACTION: License amendment request; opportunity to comment, request a hearing, and petition for leave to intervene; order, correction.

SUMMARY: The U.S. Nuclear Regulatory Commission (NRC) is correcting a notice that was published in the Federal Register on February 3, 2015, that contained an amendment request for Perry Nuclear Plant, Unit 1. This action is being taken to correct the date of the NRC's Agencywide Documents Access and Management System (ADAMS) accession number for the amendment request from FirstEnergy Nuclear Operating Company.

FOR FURTHER INFORMATION CONTACT: Eva A. Brown, Office of Nuclear Reactor Regulation, U.S. Nuclear Regulatory Commission, Washington, DC 20555-0001; telephone: 301-415-2315; email: Eva.Brown@nrc.gov.

SUPPLEMENTARY INFORMATION: In the Federal Register of February 3, 2015 (80 FR 5816), FR Doc. 2015-01917, on page 5819, in the middle of the second column, under “FirstEnergy Nuclear Operating Company, Docket No. 50-440, Perry Nuclear Power Plant, Unit 1, Lake County, Perry Ohio,” after “Date of amendment request,” the date “September 12, 2014” is corrected to read “October 8, 2014.”

Dated in Rockville, Maryland, this 9th day of March, 2015.
For the Nuclear Regulatory Commission.
Eva A. Brown,
Senior Project Manager, Plant Licensing III-2 and Planning and Analysis Branch, Division of Operating Reactor Licensing, Office of Nuclear Reactor Regulation.

[FR Doc. 2015-05944 Filed 3-13-15; 8:45 am]

BILLING CODE 7590-01-P